Proclamation 9884 of May 10, 2019

Peace Officers Memorial Day and Police Week, 2019

By the President of the United States of America

A Proclamation

On Peace Officers Memorial Day and throughout Police Week, we express our unending gratitude to our Nation's law enforcement officers. Those brave men and women selflessly confront danger to protect our families and defend our communities. We also honor those in blue who have been killed or disabled in the line of duty. We are especially mindful of the tremendous sacrifices of the 106 heroes who laid down their lives last year while protecting their communities.

My Administration is working on several fronts to enhance the health and safety of our Nation's law enforcement officers. The Department of Justice (DOJ) continues to promote initiatives that provide funding for bulletproof vests, active shooter training, the National Blue Alert System, and other programs that bolster the physical and mental health of those who protect us. We are making surplus military equipment available to law enforcement agencies. We are implementing the Law Enforcement Mental Health and Wellness Act, which I signed into law last year, to improve the delivery of and access to mental health and wellness services. And when tragedy does strike, DOJ's Public Safety Officers' Benefits Program stands ready and able to assist the families of the fallen and catastrophically injured.

The best way we can support law enforcement is to reduce violent crime. My Administration has secured $50 million in funding for one of the most effective crime prevention strategies in America, the Project Safe Neighborhoods initiative. This results-based and data-proven initiative is reducing violent crime nationwide by leveraging local law enforcement and community partnerships, along with strategic enforcement efforts, to arrest the most violent criminals in the most violent locations. Through the combined efforts of all levels of law enforcement, violent crime in our country is falling.

Our Nation's law enforcement officers serve with courage, dedication, and strength. They fearlessly enforce our laws, even at the risk of personal peril, safeguarding our property, our liberty, and our lives. We owe them, and their families, our full and enduring support.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, DONALD J. TRUMP, President of the United States of America, do hereby proclaim May 15, 2019, as Peace Officers Memorial Day and May 12 through May 18, 2019, as Police Week. In humble appreciation of our hardworking law enforcement officers, Melania and I will light the White House in blue on May 15. I call upon all Americans to observe Peace Officers Memorial Day and Police Week with appropriate ceremonies and activities. I also call on the Governors of the States and Territories and officials of other areas subject to the jurisdiction of the United States, to direct that the flag be flown at half-staff on Peace Officers Memorial Day. I further encourage all Americans to display the flag from their homes and businesses on that day.

IN WITNESS WHEREOF, I have hereunto set my hand this tenth day of May, in the year of our Lord two thousand nineteen, and of the Independence of the United States of America the two hundred and forty-third.

[FR Doc. 2019-10262

Filed 5-14-19; 11:15 am]

Billing code 3295-F9-P